SECURITIES AND EXCHANGE COMMISSION

Sunshine Act Meeting

Federal Register Citation of Previous Announcement: [75 FR 6431, February 9, 2010]

Status: Closed meeting.

Place: 100 F Street, NE., Washington, DC.

Date and Time of Previously Announced Meeting: Thursday, February 11, 2010 at 2 p.m.

Change in the Meeting: Cancellation of meeting.

The Closed Meeting scheduled for Thursday, February 11, 2010 at 2 p.m. has been cancelled.

For further information please contact the Office of the Secretary at (202) 551-5400.

Dated: February 10, 2010.
Florence E. Harmon,
Deputy Secretary.

[FR Doc. 2010-3073 Filed 2-12-10; 4:15 pm]

BILLING CODE 8011-01-P